DEPARTMENT OF HEALTH AND HUMAN SERVICES

Administration for Children and Families

Submission for OMB Review; American Indian and Alaska Native (AIAN) Facility Survey (New Collection)

AGENCY: The Office of Head Start; Administration for Children and Families; HHS.

ACTION: Request for public comment.

SUMMARY: The Office Head Start (OHS), Administration for Children and Families (ACF), U.S. Department of Health and Human Services (HHS), is proposing to collect data on the condition and ownership of American Indian and Alaska Native (AIAN) facilities to meet congressional reporting requirements under the Head Start Act.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The Head Start Act at Sec. 650(b) requires the submission of a report to the Committee on Education and Labor of the House of Representatives and the Committee on Health, Education, Labor and Pensions of the Senate concerning the condition, location, and ownership of facilities used by AIAN grantees. This report is required once during every 5-year period. The proposed collection is a brief survey on the condition and ownership of AIAN facilities for the purpose of this report.

Respondents: AIAN Head Start grantees

Annual Burden Estimates
Instrument | Total number of respondents | Total number of responses per respondent | Average burden hours per response | Total burden hours
AIAN Facility Survey | 155 | 3.5 | .1 | 54.25

Estimated Total Annual Burden Hours: 54.25.

Authority: 42 U.S.C. 9846.

Mary B. Jones,
ACF/OPRE Certifying Officer.

[FR Doc. 2019-17871 Filed 8-19-19; 8:45 am]

BILLING CODE 4184-40-P